DEPARTMENT OF THE INTERIOR

Bureau of Reclamation

Fish and Wildlife Service

DEPARTMENT OF COMMERCE

National Marine Fisheries Service; Bay Delta Conservation Plan for the Sacramento-San Joaquin Delta, California

AGENCIES: Bureau of Reclamation, Interior; Fish and Wildlife Service, Interior; National Marine Fisheries Service, National Oceanic and Atmospheric Administration, Commerce.

ACTION: Notice of Intent (NOI) to prepare an environmental impact statement/environmental impact report (EIS/EIR) and notice of public scoping meetings.

SUMMARY: Pursuant to the National Environmental Policy Act (NEPA) of 1969, as amended, the Bureau of Reclamation (Reclamation), the Fish and Wildlife Service (FWS), and the National Marine Fisheries Service (NMFS) intend to serve as co-lead agencies in the preparation of a joint EIS/EIR for the Bay Delta Conservation Plan (BDCP). The California Department of Water Resources (DWR) will serve as the lead agency under the California Environmental Quality Act (CEQA). Reclamation will serve as the administrative lead for all actions related to this Federal Register Notice.

The BDCP is a conservation plan being prepared to meet the requirements of the Federal Endangered Species Act (FESA), the California Endangered Species Act (CESA), and the State of California's Natural Communities Conservation Planning Act (NCCPA). DWR and State and Federal water contractors intend to apply for FESA and CESA incidental take permits (ITP) for water operations and management activities in the Sacramento-San Joaquin Delta. These incidental take authorizations would allow the incidental take of threatened and endangered species resulting from covered activities and conservation measures that will be identified through the planning process including those associated with water operations of the Federal Central Valley Project (CVP), as operated by Reclamation, the California State Water Project (SWP), as operated by DWR, as well as operations of certain Mirant Delta LLC (Mirant Delta) power plants. Additionally, the BDCP will, if feasible, be used as the basis for FESA compliance by Reclamation, including compliance with Section 7 of FESA in coordination with FWS and NMFS. Ultimately, the BDCP is intended to secure authorizations that would allow projects that restore and protect water supply and reliability, water quality, and ecosystem health to proceed within a stable regulatory framework.

On January 24, 2008, FWS and NMFS issued a NOI to conduct public scoping and prepare an EIR/EIS regarding the BDCP for the Sacramento-San Joaquin Delta, California (73 FR 4178). As the BDCP effort has progressed, Reclamation has determined it has a substantive interest in the development and ultimate implementation of the BDCP. Specifically, Reclamation seeks to improve water supply reliability for its Federal water contractors, while meeting its FESA obligations. Environmental constraints, including measures to protect endangered species in the Sacramento-San Joaquin Delta, impair that water supply reliability. The BDCP will recommend actions and conservation measures for implementation to improve both environmental conditions in the Delta and water supply reliability. Reclamation expects the recommended actions and conservation measures to include activities that are within Reclamation's responsibilities. The NOI is, therefore, being reissued to include Reclamation as a co-lead agency, update the status of the BDCP planning process, correct an error in the January 24, 2008, NOI, and to provide notice of scoping meetings. As the Federal lead agencies continue to refine the purpose and need for the project, additional public notices regarding scoping will be issued and additional scoping meetings will be held.

DATES: Ten public scoping meetings will be held at various times and locations throughout California. See SUPPLEMENTARY INFORMATION section for public scoping meeting dates.

Written comments on the scope of the BDCP or issues to be addressed in the EIS/EIR must be received no later than May 30, 2008.

The scoping period on the initial Notice of Intent published jointly by FWS and NMFS on January 24, 2008 (73 FR 4178), is scheduled to close on March 24, 2008. Comments submitted under that NOI need not be resubmitted, as all comments will be consolidated and incorporated under this NOI for review and response by the co-lead agencies (i.e., Reclamation, FWS, and NMFS).

ADDRESSES: Send written comments to Patti Idlof, Bureau of Reclamation, 2800 Cottage Way, MP-150, Sacramento, CA 95825, e-mail to pidlof@mp.usbr.gov, or fax to (916) 978-5055.

See SUPPLEMENTARY INFORMATION section for public scoping meeting addresses.

FOR FURTHER INFORMATION CONTACT: Patti Idlof, Natural Resource Specialist, Reclamation, at the above address or 916-978-5056; Lori Rinek, FWS, 916-414-6600; or Rosalie del Rosario, NMFS, 916-930-3600.

SUPPLEMENTARY INFORMATION:

Public Scoping Meeting Dates

Public scoping meetings will be held on the following dates and times:

• Monday, April 28, 2008, 10 a.m. to 2 p.m., Sacramento, CA.

• Tuesday, April 29, 2008, 5 p.m. to 9 p.m., Chico, CA.

• Wednesday, April 30, 2008, 6 p.m. to 10 p.m., Clarksburg, CA.

• Monday, May 5, 2008, 6 p.m. to 10 p.m., Stockton, CA.

• Tuesday, May 6, 2008, 6 p.m. to 10 p.m., San Jose, CA.

• Wednesday, May 7, 2008, 6 p.m. to 10 p.m., Los Banos, CA

• Thursday, May 8, 2008, 1 p.m. to 4 p.m., Los Angeles, CA

• Monday, May 12, 2008, 6 p.m. to 10 p.m., San Diego, CA

• Tuesday, May 13, 2008, 6 p.m. to 10 p.m., Fresno, CA

• Wednesday, May 14, 2008, 6 p.m. to 10 p.m., Bakersfield, CA

Public Scoping Meeting Addresses

Public scoping meetings will be held at the following locations:

• Sacramento—California Resources Building Auditorium, 1416 Ninth Street, Sacramento, CA 95816.

• Chico—Chico Masonic Family Center, 1110 West East Avenue, Chico, CA 95926.

• Clarksburg—Clarksburg Middle School, 52870 Netherlands, Clarksburg, CA 95612.

• Stockton—San Joaquin Farm Bureau, 3290 North AdArt Road, Stockton, CA 95215.

• San Jose—Santa Clara Valley Water District, 5700 Almaden Expressway, San Jose, CA 95118.

• Los Banos—City of Los Banos, Public Services Department Main Office

Senior Center—Miller & Lux Building, 830 6th Street, Los Banos, CA 93635.

• Los Angeles—Junipero Serra State Office Building, 320 West Fourth, Carmel Room 225, Los Angeles, CA 90013.

• San Diego—Marina Village Conference Center, 1936 Quivira Way, Starboard Room, San Diego, CA 92109.

• Fresno—Four Points-Fresno, 3737 North Blackstone, Fresno, CA 93726.

• Bakersfield—Board of Supervisors Chambers, 1115 Truxtun Avenue, First Floor, Bakersfield, CA 93301.

Modification to January 24, 2008, NOI published by FWS and NMFS

The NOI dated January 24, 2008 (73FR4178) erroneously identified Contra Costa Water District (CCWD) as a Potentially Regulated Entity (PRE). CCWD is a participant in the process, but has not yet and may not become a PRE.

Background Information

The BDCP is being prepared through a collaboration of State, Federal, and local water agencies, and Mirant Delta, an electric power generating facility located in West Pittsburg, California in Contra Costa County, under: (1) Section 10(a)(1)(B) of the FESA of 1973, as amended, and (2) the NCCPA, California Fish and Game Code, Section 2800 et. seq., or Fish and Game Code Section 2081 of CESA. The BDCP is intended to provide (1) Reclamation the ability to obtain a Biological Opinion and incidental take statements (ITS) pursuant to Section 7 of FESA and (2) the basis for the DWR and State and Federal water contractors to apply for ITPs pursuant to Section 10 of FESA and California Fish and Game Code Section 2835 or 2081 for implementation of the BDCP.

DWR and Reclamation, along with the Metropolitan Water District of Southern California (MWD), the Kern County Water Agency (KCWA), the Santa Clara Valley Water District (SCVWD), Alameda County Flood Control and Water Conservation District, Zone 7 Water Agency (Zone 7), the San Luis and Delta-Mendota Water Authority (SLDMWA), the Westlands Water District (WWD), and Mirant Delta (known collectively as the Potentially Regulated Entities or PREs) are currently preparing the BDCP for existing and proposed covered activities within the Statutory Delta. Some of the elements of the BDCP will complement the actions identified in the State of California's Delta Vision process.

It is the goal of the PREs that the BDCP follow the processes that meet:

1. The requirements of Section 10(a)(1)(B) of the FESA for the non-federal PREs and result in the issuance of ITPs from the FWS and NMFS to those PREs;

2. The requirements of an ITP under the California fish and wildlife protection laws, either pursuant to Section 2835 or Section 2081, resulting in take authority under the Fish and Game Code; and

3. The requirements of the Section 7 consultation process under the FESA, resulting in the issuance of Biological Opinions, and ITSs, from the NMFS and FWS on specific activities of certain members of the PREs.

The planning efforts for the BDCP are in the preliminary stages. However, the collective goals of the PREs will help form the purpose and need statement for the project as required by NEPA and the project objective as required by CEQA. Formal preparation of a draft EIS/EIR will commence when the planning efforts progress further in the coming months. The BDCP is being prepared with the cooperation of the FWS, NMFS, California Resources Agency, California Department of Fish and Game (CDFG), the PREs, and various stakeholders, including The Nature Conservancy, Environmental Defense, Defenders of Wildlife, the California Farm Bureau, the Natural Heritage Institute, American Rivers, Contra Costa Water District, and The Bay Institute. These organizations are members of the Steering Committee, which is helping to guide preparation of the BDCP. The regulatory agencies, FWS, NMFS, and CDFG are participating in the Steering Committee to provide technical input and guidance in support of the Steering Committee's efforts to complete the BDCP. Other applicants, co-applicants, or beneficiaries of an ITP, referred to as PREs, may be identified during the planning process.

The participants are undertaking these planning efforts pursuant to: (1) The Planning Agreement that was signed October, 2006, and amended April, 2007, to guide development of the BDCP and (2) the “Points of Agreement for Continuing into the Planning Process” dated November 16, 2007 (see Resources Agency Web site, http://resources.ca.gov/bdcp/ for these agreements). The Points of Agreement document provides a summary of the BDCP planning process to date, along with future direction and procedures. The website provides access to documentation of the planning process, and a schedule of past and future planning activities.

BDCP Description

The BDCP will have several core purposes: Habitat restoration and enhancement to increase the quality and quantity of habitat in the Delta; other conservation actions to help address a number of stressors on covered species; conveyance facilities to enhance operational flexibility and water supply reliability while providing greater opportunities for habitat improvements and fishery conservation; water operations and management actions to achieve conservation and water supply goals; and a comprehensive monitoring, assessment, and adaptive management program guided by independent scientific input. Additional core purposes of the BDCP are to provide for the conservation of covered species within the planning area; to protect and restore certain aquatic, riparian, and associated terrestrial natural communities that support these covered species; and to provide for and restore water quality, water supplies, and ecosystem health within a stable regulatory framework. The EIS/EIR will evaluate the effects of implementing the BDCP, conveyance alternatives, and power line alignments, other nonstructural alternatives, and describe the permits necessary for BDCP implementation.

The BDCP will likely consist of several major elements, including new capital improvements to the water supply conveyance system, a restoration program for important habitats within and adjacent to the Delta in order to improve the ecological productivity and sustainability of the Delta, and monitoring and adaptive management for the restoration program. The plan will also likely include operational improvements for the water supply system in the near-term and for the long-term once any capital improvements have been completed and are operational.

Covered Activities

The BDCP covered activities may include, but are not limited to, existing or new activities related to:

• Existing Delta conveyance elements and operations of the CVP and SWP;

• New Delta conveyance facilities (including power line alignments) and operations of the CVP and SWP generally described in the BDCP November 2007 Points of Agreement;

• Operational activities, including emergency preparedness of the CVP and SWP in the Delta;

• Operational activities in the Delta related to water transfers involving water contractors or to serve environmental programs;

• Maintenance of the CVP, SWP, and other PREs' facilities in the Delta;

• Facility improvements of the CVP and SWP within the Statutory Delta (California Water Code Section 12220);

• Ongoing operation of and recurrent and future projects related to other Delta water users, as defined by the Planning Agreement;

• Projects designed to improve Delta salinity conditions; and

• Conservation measures included in the BDCP, including, but not limited to, fishery related habitat restoration projects, adaptive management, and monitoring activities in the Delta.

Covered Species

The covered species that are the initial focus of the BDCP include certain aquatic species such as:

• Central Valley steelhead Oncorhynchus mykiss;

• Central Valley Chinook salmon Oncorhynchus tshawytscha (spring-run and fall/late fall-runs);

• Sacramento River Chinook salmon Oncorhynchus tshawytscha (winter-run);

• Delta smelt Hypomesus transpacificus;

• Green sturgeon Acipenser medirostris;

• White sturgeon Acipenser transmontanus;

• Splittail Pogonichthys macrolepidotus; and

• Longfin smelt Spirinchus thaleichthys.

Other species that will be considered for inclusion in the BDCP include, but may not be limited to:

• Swainson's hawk Buteo swainsoni;

• Bank swallow Riparia riparia;

• Giant garter snake Thamnophis gigas; and

• Valley elderberry longhorn beetle Desmocerus californicus dimorphus.

This list identifies the species that will be evaluated for inclusion in the BDCP as proposed covered species; however, the list may change as the planning process progresses. The participants anticipate that species may be added or removed from the list once more is learned about the nature of the covered activities and the impact of covered activities on native species within the planning area.

BDCP Planning Goals

The BDCP will include goals and objectives related to the management of covered activities and the protection of covered species and their habitats. As described in the Planning Agreement, the planning goals include:

1. Provide for the conservation and management of covered species within the planning area;

2. Preserve, restore, and enhance aquatic, riparian, and associated terrestrial natural communities and ecosystems that support covered species within the planning area through conservation partnerships;

3. Allow for projects that restore and protect water supply reliability, water quality, ecosystem, and ecosystem health to proceed within a stable regulatory framework;

4. Provide a means to implement covered activities in a manner that complies with applicable State and federal fish and wildlife protection laws, including the NCCPA or CESA, FESA, and other environmental laws, including CEQA and NEPA;

5. Provide a basis for permits necessary to lawfully take covered species;

6. Provide a comprehensive means to coordinate and standardize mitigation and compensation requirements for covered activities within the planning area;

7. Provide a less costly, more efficient project review process which results in greater conservation values than project-by-project, species-by-species review, and;

8. Provide clear expectations and regulatory assurances regarding covered activities occurring within the planning area.

Project Area

The planning area for the BDCP will consist of the aquatic ecosystems and natural communities and, potentially, the adjacent riparian and floodplain natural communities within the Statutory Delta. The Statutory Delta includes parts of Yolo, Solano, Contra Costa, San Joaquin, and Sacramento counties. However, it may be necessary for the BDCP to include conservation actions outside of the Statutory Delta that advance the goals and objectives of the BDCP within the Delta, including as appropriate, conservation actions in the Suisun Marsh, Suisun Bay, and areas upstream of the Delta. Any conservation actions outside the Statutory Delta would be implemented pursuant to cooperative agreements or similar mechanisms with local agencies, interested non-governmental organizations, landowners, and others. The EIS/EIR project area for which impacts are evaluated may be different than the BDCP geographic scope.

Basis for Preliminary Alternatives

As part of the BDCP process, the Steering Committee evaluated potential options to address water supply reliability, water quality, and ecosystem health in the Delta. Initial options included various combinations of water conveyance facilities and habitat restoration actions. As a result of this evaluation, the Steering Committee developed the Points of Agreement document that provides an overall framework for moving forward with development of the BDCP. Previous evaluations and potential improvements to the water conveyance system and strategies for in-Delta habitat restoration and enhancement outlined in the Points of Agreement document will be used for the basis of alternative development, but will not preclude or limit the range of alternatives to be analyzed under NEPA.

Statutory Authority

Reclamation, as administrative lead for this Federal Register action, provides this notice in accordance with NEPA regulations found in 40 CFR 1501.7.

NEPA (42 U.S.C. 4321 et seq.) requires that Federal agencies conduct an environmental analysis of their proposed actions to determine if the actions may significantly affect the human environment. Under NEPA and its implementing regulations (40 CFR 1500 et seq.; NOAA Administrative Order 216-6), a reasonable range of alternatives to the proposed action are to be developed and considered in an EIS/EIR prepared by the FWS and NMFS. Alternatives considered for analysis in an EIS/EIR may include variations in the scope or types of covered activities; variations in the location, amount, and types of conservation measures and the timing of project activities; variations in permit duration; or a combination of these or other elements. In addition, as required by NEPA, the EIS will identify significant direct, indirect, and cumulative effects, and possible mitigation for those significant effects, on biological resources, land use, air quality, water quality, water resources, socioeconomics, environmental justice, cultural resources, and other environmental issues that could occur with the implementation of the proposed action and alternatives.

Request for Comments

The purpose of this notice is to advise other Federal and State agencies, affected Tribes, and the public of our intention to continue to gather information to support the preparation of an EIS/EIR, to obtain suggestions and information from other agencies and the public on the scope of alternatives and issues to be addressed in the EIS/EIR, and to identify important issues raised by the public related to the development and implementation of the BDCP. Written comments from interested parties are invited to ensure that the full range of alternatives and issues related to the development of the BDCP is identified. Comments during this stage of the scoping process will only be accepted in written form. All comments received, including names and addresses, will become part of the official administrative record and may be made available to the public. A similar notice is being published by DWR in accordance with CEQA requirements. Comments and participation in the scoping process are encouraged.

Special Assistance for Public Scoping Meetings

If special assistance is required at the public meetings, please contact Ms. Patti Idlof at 916-978-5056, TDD 916-978-5608, or via e-mail at pidlof@mp.usbr.gov. Please notify Ms. Idlof as far in advance as possible to enable Reclamation to secure the needed services. If a request cannot be honored, the requestor will be notified. A telephone device for the hearing impaired (TDD) is available at 916-978-5608.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: April 4, 2008.
Susan M. Fry,
Regional Environmental Officer, Mid-Pacific Region, Bureau of Reclamation.

Dated: April 4, 2008.
Ken McDermond,
Deputy Regional Director, U.S. Fish and Wildlife Service, Region 8, Sacramento, CA.

Dated: April 4, 2008.
Russell M. Strach,
Assistant Regional Administrator, Southwest Region, National Marine Fisheries Service.

[FR Doc. E8-8010 Filed 4-14-08; 8:45 am]

BILLING CODE 4310-MN-P